DEPARTMENT OF VETERANS AFFAIRS

[OMB Control No. 2900-New (VA Form 10-0513)]

Agency Information Collection Activity (Veteran Suicide Prevention Online Quantitative Surveys) Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and it includes the actual data collection instrument.

DATES: Comments must be submitted on or before June 10, 2011.

ADDRESSES: Submit written comments on the collection of information through http://www.Regulations.gov; or to VA's OMB Desk Officer, OMB Human Resources and Housing Branch, New Executive Office Building, Room 10235, Washington, DC 20503 (202) 395-7316. Please refer to “OMB Control No. 2900-New (VA Form 10-0513)” in any correspondence.

For Further Information or a Copy of the Submission Contact: Denise McLamb, Enterprise Records Service (005R1B), Department of Veterans Affairs, 810 Vermont Avenue, NW., Washington, DC 20420, (202) 461-7485, FAX (202) 461-0966 or e-mail: denise.mclamb@va.gov. Please refer to “OMB Control No. 2900-New (VA Form 10-0513).”

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. Veterans Online Survey, VA Form 10-0513.

b. Veterans Family Online Survey, VA Form 10-0513a.

c. Veterans Primary Care Provider Online Survey, VA Form 10-0513b.

OMB Control Number: 2900-New (VA Form 10-0513).

Type of Review: New collection.

Abstract: VA's top priority is the prevention of Veterans suicide. It is imperative to reach these at-risk populations with proactive and trust-worthy communications and focused and effective outreach activities. As a part of this outreach, VA will collect information from Veterans, primary care providers and families of veterans. Data collected on the surveys will be used to better understand Veterans and their families' awareness of VA's suicide prevention and mental health support services. In addition, the surveys will help gauge how Veterans view the need for and willingness to accept help when in crises or contemplating suicide.

An agency may not conduct or sponsor, and a person is not required to respond to a collection of information unless it displays a currently valid OMB control number. The Federal Register Notice with a 60-day comment period soliciting comments on this collection of information was published on February 18, 2011, at page 9637.

Affected Public: Individuals and Households.

Estimated Annual Burden

a. Veterans Online Survey, VA Form 10-0513—300 hours.

b. Veterans Family Online Survey, VA Form 10-0513a—300 hours.

c. Veterans Primary Care Provider Online Survey, VA Form 10-0513b—300 hours.

Estimated Average Burden per Respondent

a. Veterans Online Survey, VA Form 10-0513—30 mins.

b. Veterans Family Online Survey, VA Form 10-0513a—30 mins.

c. Veterans Primary Care Provider Online Survey, VA Form 10-0513b—30 mins.

Frequency of Response: Annually.

Estimated Number of Respondents

a. Veterans Online Survey, VA Form 10-0513—600.

b. Veterans Family Online Survey, VA Form 10-0513a—600.

c. Veterans Primary Care Provider Online Survey, VA Form 10-0513b—600.

Dated: May 5, 2011.
By direction of the Secretary.
Denise McLamb,
Program Analyst, Enterprise Records Service.

[FR Doc. 2011-11460 Filed 5-10-11; 8:45 am]

BILLING CODE 8320-01-P